FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 14, 2008.

A. Federal Reserve Bank of Philadelphia (Michael E. Collins, Senior Vice President) 100 North 6th Street, Philadelphia, Pennsylvania 19105-1521:

1. Evelyn Rome Tabas, Narberth, Pennsylvania; to acquire shares of Royal Bancshares of Pennsylvania, Inc., Narberth, Pennsylvania, and thereby acquire control of Royal Bank of Pennsylvania, Narberth, Pennsylvania. Once acquired, the shares will be sold to six individual trusts: (i) Lee E. Tabas Trust, (ii) Susan Tabas Tepper Trust, (iii) Robert Royal Tabas Trust, (iv) Linda Jane Tabas Stempel Trust (v) Carol Tabas Trust, and (vi) Jo Ann Wurzak Trust, (collectively the Trust). As such, the Trusts, and Nicholas Anthony Randazzo, Clifton Height, Pennsylvania; Robert Royal Tabas, Bryn Mawr, Pennsylvania; and Linda Jane Tabas Stempel, Haverford, PA, as co-trustees of each of the six trusts, also request permission for the trusts to acquire shares of Royal Bancshares of Pennsylvania, Inc.

Board of Governors of the Federal Reserve System, June 23, 2008.
Robert deV. Frierson,
Deputy Secretary of the Board.

[FR Doc. E8-14502 Filed 6-25-08; 8:45 am]

BILLING CODE 6210-01-S